DEPARTMENT OF DEFENSE

Office of the Secretary

Strategic Environmental Research and Development Program, Scientific Advisory Board; Notice of Federal Advisory Committee Meeting; Cancellation of Meeting

AGENCY: Department of Defense.

ACTION: Notice; cancellation of meeting.

SUMMARY: On Tuesday, September 24, 2013 (78 FR 58526-58528), the Department of Defense published a notice announcing a meeting of the Strategic Environmental Research and Development Program, Scientific Advisory Board that was to have taken place on October 15, 2013 and October 16, 2013. This meeting was cancelled.

FOR FURTHER INFORMATION CONTACT: Mr. Jonathan Bunger, SERDP Office, 4800 Mark Center Drive, Suite 17D08, Alexandria, VA 22350-3605; or by telephone at (571) 372-6384.

SUPPLEMENTARY INFORMATION: Due to the lapse of appropriations, the Department of Defense cancelled the meeting of the Strategic Environmental Research and Development Program Scientific Advisory Board on October 15-16, 2013. As a result, the Department of Defense was unable to provide appropriate notification as required by 41 CFR 102-3.150(a). Therefore, the Advisory Committee Management Officer for the Department of Defense, pursuant to 41 CFR 102-3.150(b), waives the 15-calendar day notification requirement.

Dated: October 18, 2013.
Aaron Siegel,
Alternate OSD Federal Register Liaison Officer, Department of Defense.

[FR Doc. 2013-24848 Filed 10-23-13; 8:45 am]

BILLING CODE 5001-06-P